Title 3—

The President

Proclamation 7981 of February 22, 2006

To Modify Duty Free Treatment Under the Generalized System of Preferences

By the President of the United States of America

A Proclamation

1. Section 502 of the Trade Act of 1974, as amended (the “1974 Act”) (19 U.S.C. 2462), authorizes the President to designate countries as beneficiary developing countries, and to designate any beneficiary developing country as a least-developed beneficiary developing country, for purposes of the Generalized System of Preferences (GSP) program.

2. Pursuant to section 502 of the 1974 Act, and taking into account the factors set forth in section 502(c) (19 U.S.C. 2462(c)), I have determined that the suspension pursuant to Proclamation 6123 of April 26, 1990, of preferential treatment for Liberia as a beneficiary developing country under the GSP should be ended.

3. Pursuant to section 502 of the 1974 Act, and having considered the factors set forth in sections 501 (19 U.S.C. 2461) and 502(c), I have also determined that Liberia should be desig nated as a least-developed beneficiary developing country for purposes of the GSP.

4. Section 604 of the 1974 Act (19 U.S.C. 2483), as amended, authorizes the President to embody in the Harmonized Tariff Schedule (HTS) of the United States the substance of relevant provisions of that Act, or other acts affecting import treatment, and of actions taken thereunder.

NOW, THEREFORE, I, GEORGE W. BUSH, President of the United States of America, acting under the authority vested in me by the Constitution and the laws of the United States of America, including title V and section 604 of the 1974 Act (19 U.S.C. 2461-67, 2483), do proclaim that:

(1) In order to reflect in the HTS the restoration of preferential treatment for Liberia as a beneficiary developing country under the GSP, general note 4(a) is modified by adding in alphabetical order “Liberia” to the list entitled “Independent Countries.”

(2) In order to reflect in the HTS the designation of Liberia as a least-developed beneficiary developing country under the GSP, general note 4(b)(i) is modified by adding in alphabetical order “Liberia.”

(3) The modifications to the HTS made by paragraph 1 of this proclamation shall be effective with respect to articles entered, or withdrawn from warehouse for consumption, on or after 15 days after the date of this proclamation.

(4) The modifications to the HTS made by paragraph 2 of this proclamation shall be effective with respect to articles entered, or withdrawn from warehouse for consumption, on or after 60 days after the date of this proclamation.

(5) Any provisions of previous proclamations and Executive Orders that are inconsistent with the actions taken in this proclamation are superseded to the extent of such inconsistency.

IN WITNESS WHEREOF, I have hereunto set my hand this twenty-second day of February, in the year of our Lord two thousand six, and of the Independence of the United States of America the two hundred and thirtieth.

B

[FR Doc. 06-1798

Filed 2-23-06; 8:45 am]

Billing code 3195-01-P